DEPARTMENT OF HOMELAND SECURITY

Federal Emergency Management Agency

Availability of Flood Hazard Maps and Data

AGENCY: Federal Emergency Management Agency, DHS.

ACTION: Notice.

SUMMARY: The Federal Emergency Management Agency (FEMA) is completing the update and conversion to digital of the National Flood Insurance Program flood hazard map inventory. As part of the Flood Map Modernization Program, FEMA will discontinue the public distribution of paper Flood Insurance Rate Maps, Flood Insurance Study reports, and related flood hazard map products.

FEMA will provide communities where the flood hazard information is updated with an updated paper map to satisfy local regulatory requirements for a paper map product.

For all other requests, FEMA will distribute digital Flood Insurance Rate Maps, Flood Insurance Study reports, and related flood hazard map products in place of the paper versions. Over the past several years, FEMA has transitioned from paper maps to digital map images and digital flood hazard data as the primary flood hazard information products. These products will still be available through the FEMA Map Service Center. This change will reduce duplication of effort and reduce the cost for updating flood hazard maps.

DATES: This change is effective as of October 1, 2009.

ADDRESSES: Information about FEMA Flood Hazard Maps and Data is available on the Map Service Center Web site http://msc.fema.gov.

FOR FURTHER INFORMATION CONTACT: Paul Rooney, Data and Dissemination Branch, Mitigation Directorate, Federal Emergency Management Agency, 500 C Street, SW., Washington, DC 20472, (paul.rooney@dhs.gov).

SUPPLEMENTARY INFORMATION: The Federal Emergency Management Agency (FEMA) is responsible for identifying high risk flood areas to support the National Flood Insurance Program (NFIP). These areas have historically been identified on paper Flood Insurance Rate Maps (FIRMs). Over the past several years, FEMA has introduced new digital products including digital map images (the full size FIRM Scans and letter size FIRMettes) and digital geospatial flood hazard data (the Digital Flood Insurance Rate Map (DFIRM) Database product and National Flood Hazard Layer (NFHL)). These digital products now make up the vast majority of the flood hazard information distributed by FEMA and are equivalent to the paper maps for any official activities under the NFIP.

FEMA will continue to provide local governments a paper copy of their flood hazard map and flood insurance study report when the map is updated by FEMA. FEMA will discontinue all other distribution of paper maps and study reports beginning with map update projects where the letter of final determination is issued on or after October 1, 2009. The letter of final determination is issued six months before new flood maps become effective for NFIP regulatory purposes.

FEMA will continue to provide digital flood hazard data products for Internet download, on CD-ROM, and via Web Mapping Service. Federal, State, and local government customers that have been receiving paper products will now receive digital flood hazard maps and data, and continue to be exempt from fees (specified in 42 U.S.C. 4101).

This change will allow FEMA to realize significant cost savings in the map update process by eliminating the need to generate large format film negatives to support offset printing. It will also save the cost of printing and distributing the paper maps to fee exempt customers. This change simplifies the products available depicting flood hazard for a location.

The FEMA Map Service Center provides complete information about the digital flood hazard data products, free tools, and easy-to-follow instructions for using them at http://msc.fema.gov.

Dated: October 9, 2008.
Michael K. Buckley,
Acting Assistant Administrator, Mitigation Directorate, Federal Emergency Management Agency, Department of Homeland Security.

[FR Doc. E8-25269 Filed 10-22-08; 8:45 am]

BILLING CODE 9110-12-P